DEPARTMENT OF HEALTH AND HUMAN SERVICES

Administration for Children and Families

Office of Community Services; Program Announcement for Assets for Independence Demonstration Program Grants

Notice of amendment to the standing announcement for Assets for Independence Demonstration Program Grants, HHS-2005-ACF-OCS-EI-0053, CFDA #93.602, published on February 9, 2005.

AGENCY: Office of Community Services (OCS), Administration for Children and Families, U.S. Department of Health and Human Services.

ACTION: Notice of Amendment.

The program announcement concerning the application procedures for the Assets for Independence Demonstration Program grants published on February 9, 2005 in Volume 70, Federal Register, pages 6879—6888 is hereby modified. The amendment modifies the application receipt requirements.

SUMMARY: On February 9, 2005, the Office of Community Services, Administration for Children and Families, U.S. Department of Health and Human Services published an announcement seeking applications for the Assets for Independence Demonstration Program. The announcement appeared in Volume 70, pages 6879-6888 of the Federal Register. This document announces a change in the application receipt requirements. To be considered timely for all application due dates, applications now must be received at the OCS Operations Center no later than the due dates.

The Program Announcement for Assets for Independence Demonstration Program is a standing announcement. It is effective until canceled or changed by the Office of Community Services (OCS). Applicants may submit applications at any time throughout the year. OCS will review and make funding decisions about applications submitted by any of three due dates: March 15, June 15, and November 1. (If a date falls on a weekend, the due date will be the following Monday.) For example, starting in mid-March annually, OCS will review all applications submitted November 2 through March 15. Starting in early June, OCS will review all applications submitted March 16 through June 15. And, starting in early November, OCS will review all applications submitted June 16 through November 1. Unsuccessful applicants may submit a new application in any succeeding application period.

(1) Under Section IV.3. Submission Dates and Times

Please Delete the following:

Explanation of Due Dates

The closing time and date for receipt of applications is referenced above. Mailed applications postmarked after the closing date will be classified as late.

Deadline: Mailed applications shall be considered as meeting an announced deadline if they are either received on or before the deadline date or sent on or before the deadline date and received by ACF in time for the independent review referenced in Section IV.6.

Applicants must ensure that a legibly dated U.S. Postal Service postmark or a legibly dated, machine produced postmark of a commercial service is affixed to the envelope/package containing the application(s). To be acceptable of proof of timely mailing, a postmark from a commercial mail service must include the logo/emblem of the commercial mail service company from the applicant. Private Metered postmarks shall not be acceptable as proof of timely mailing.

(Applicants are cautioned that express/overnight mail services do not always deliver as agreed.)

Please Replace the deleted paragraphs under Section IV.3. Submission Dates and Times with the following:

Explanation of Due Dates

The closing time and date for receipt of applications is referenced above. Applications received after 4:30 p.m., eastern time, on the closing date will be classified as late and will not be considered in the current competition.

Applicants are responsible for ensuring that applications are mailed or submitted electronically well in advance of the application due date.

(Applicants are cautioned that express/overnight mail services do not always deliver as agreed.)

All information in this Notice of amendment is accurate and replaces information specified in the February 9, 2005 Notice.

Announcement Availability: The Assets for Independence Demonstration Program announcement and all application materials are available at http://www.Grants.gov. Standard forms and certifications may also be found at http://www.acf.hhs.gov/programs/ofs/forms.htm. Finally, the OCS Asset Building Web site at http://www.acf.hhs.gov/assetbuilding provides much information about the Assets for Independence Demonstration Program and the application process. The page includes links to all required forms as well as to a guidebook for developing an AFI Project and applying for an AFI grant.

FOR FURTHER INFORMATION CONTACT: James Gatz, Manager, Assets for Independence Program, Telephone: (202) 401-4626 or E-mail: AFIProgram@acf.hhs.gov. An array of helpful information is posted on the OCS Asset Building Web site at http://www.acf.hhs.gov/assetbuilding.

Dated: November 10, 2005.
Josephine B. Robinson,
Director, Office of Community Services.

[FR Doc. 05-22799 Filed 11-16-05; 8:45 am]

BILLING CODE 4184-01-P